DEPARTMENT OF TRANSPORTATION

Federal Aviation Administration

14 CFR Part 39

[Docket No. FAA-2020-0857; Project Identifier MCAI-2020-00707-A; Amendment 39-21570; AD 2021-11-08]

RIN 2120-AA64

Airworthiness Directives; Pilatus Aircraft Ltd. Airplanes

AGENCY: Federal Aviation Administration (FAA), DOT.

ACTION: Final rule.

SUMMARY: The FAA is superseding Airworthiness Directive (AD) 2014-25-04 for all Pilatus Aircraft Ltd. (Pilatus) Model PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes. AD 2014-25-04 required incorporating revised airworthiness limitations into the aircraft maintenance manual (AMM) for your FAA-approved maintenance program. This AD requires incorporating new airworthiness limitations and an eddy current inspection of each fuselage wing fitting if an earlier version of the service information was accomplished. This AD was prompted by a determination that the new life limits, revised airworthiness limitations, and new inspection procedures are necessary. The FAA is issuing this AD to address the unsafe condition on these products.

DATES: This AD is effective July 12, 2021.

The Director of the Federal Register approved the incorporation by reference of certain publications listed in this AD as of July 12, 2021.

ADDRESSES: For service information identified in this final rule, contact Pilatus Aircraft Ltd., Customer Support General Aviation, CH-6371 Stans, Switzerland; phone: +41 848 24 7 365; email: Techsupport@pilatus-aircraft.com; website: https://www.pilatus-aircraft.com/en. You may view this referenced service information at the FAA, Airworthiness Products Section, Operational Safety Branch, 901 Locust, Kansas City, MO 64106. For information on the availability of this material at the FAA, call (816) 329-4148. It is also available at https://www.regulations.gov by searching for and locating Docket No. FAA-2020-0857.

Examining the AD Docket

You may examine the AD docket at https://www.regulations.gov by searching for and locating Docket No. FAA-2020-0857; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Doug Rudolph, Aviation Safety Engineer, FAA, General Aviation & Rotorcraft Section, International Validation Branch, 901 Locust, Room 301, Kansas City, MO 64106; phone: (816) 329-4059; fax: (816) 329-4090; email: doug.rudolph@faa.gov.

SUPPLEMENTARY INFORMATION:

Background

The FAA issued a notice of proposed rulemaking (NPRM) to amend 14 CFR part 39 to supersede AD 2014-25-04, Amendment 39-18045 (79 FR 73803, December 12, 2014) (AD 2014-25-04). AD 2014-25-04 applied to all Pilatus Model PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes and resulted from mandatory continuing airworthiness information (MCAI) issued by an aviation authority of another country to identify and correct an unsafe condition on an aviation product. AD 2014-25-04 required incorporating revised airworthiness limitations into the AMM for your FAA-approved maintenance program.

The NPRM published in the Federal Register on October 2, 2020 (85 FR 62266). The NPRM was prompted by a MCAI issued by the European Union Aviation Safety Agency (EASA), which is the Technical Agent for the Member States of the European Union. EASA superseded its previous MCAIs on this unsafe condition with EASA AD 2020-0120, dated May 27, 2020 (EASA AD 2020-0120). The NPRM proposed to require revising the airworthiness limitation section of the existing maintenance manual or instructions for continued airworthiness to incorporate new airworthiness limitations, and performing an eddy current inspection of the fuselage wing fittings and wing to fuselage fittings.

After the FAA issued the NPRM, EASA superseded EASA AD 2020-0120 and issued EASA AD 2020-0278, dated December 14, 2020 (EASA AD 2020-0278) (also referred to after this as “the MCAI”). According to EASA AD 2020-0278, an installation procedure specified in the service information identified in the NPRM contained an error and, therefore, did not adequately address the identified unsafe condition. Pilatus revised the airworthiness limitations and issued corrected service information, which includes installing certain bushes using grease instead of a bonding agent and an additional one-time eddy current inspection of the fuselage wing fittings and wing-to-fuselage fittings if the last inspection was performed using an earlier version of the service information. You may examine the MCAI in the AD docket at https://www.regulations.gov by searching for and locating Docket No. FAA-2020-0857.

The FAA issued a supplemental notice of proposed rulemaking (SNPRM) to amend 14 CFR part 39 to supersede AD 2014-25-04. The SNPRM published in the Federal Register on March 8, 2021 (86 FR 13222). The SNPRM proposed to add an eddy current inspection of each fuselage wing fitting if an earlier version of the service information was accomplished. The FAA is issuing this AD to address reduced airplane controllability due to possible loss of structural integrity of certain parts.

Discussion of the Final Airworthiness Directive

Comments

The FAA received no comments on the SNPRM or on the determination of the costs.

Conclusion

This product has been approved by the aviation authority of another country, and is approved for operation in the United States. Pursuant to the FAA's bilateral agreement with the State of Design Authority, the FAA has been notified of the unsafe condition described in the MCAI and service information referenced above. The FAA reviewed the relevant data and determined that air safety requires adoption of the AD as proposed. Accordingly, the FAA is issuing this AD to address the unsafe condition on these products. This AD is adopted as proposed in the SNPRM.

Related Service Information Under 1 CFR Part 51

Pilatus issued the Airworthiness Limitations Section of PC-6 Airworthiness Limitations Document No. 02334, Revision 10, dated October 30, 2020; and Section 04-00-00, Airworthiness Limitations of Chapter 04, Airworthiness Limitations, of the Pilatus PC-6 Aircraft Maintenance Manual Document No. 01975, Revision 30, dated October 30, 2020. This service information contains airworthiness limitations for the stabilizer trim actuator, fuselage wing fittings, and wing-to-fuselage fittings. These documents are distinct since they apply to different airplane models.

Pilatus also issued Section 53-00-01, Fuselage Wing Fittings—Inspection/Check, of the Pilatus PC-6 Aircraft Maintenance Manual Document No. 01975, Revision 30, dated October 30, 2020; Section 57-00-03, Wing to Fuselage Fittings—Inspection/Check, of the PC-6 Aircraft Maintenance Manual Document No. 01975, Revision 29, dated February 28, 2020; Appendix K, Fuselage Wing Fittings—Inspection/Check, of the PC-6 Airworthiness Limitations Document No. 02334, Revision 10, dated October 30, 2020; and Appendix L, Wing to Fuselage Fittings—Inspection/Check, of the PC-6 Airworthiness Limitations Document No. 02334, Revision 9, dated March 6, 2020. This service information specifies procedures for repetitive eddy current inspections of the fuselage wing fittings and wing-to-fuselage fittings and, if necessary, installing the bush on the fuselage wing fittings using grease. These documents are distinct since they apply to different airplane models.

This service information is reasonably available because the interested parties have access to it through their normal course of business or by the means identified in the ADDRESSES section.

Costs of Compliance

The FAA estimates that this AD affects 30 airplanes of U.S. registry. The FAA estimates the following costs to comply with this AD:

Estimated Costs
Action | Labor cost | Parts cost | Cost per product | Cost on U.S. operators
ALS revision | 1 work-hour × $85 per hour = $85 | $0 | $85 | $2,550.
Eddy current inspection of the fuselage wing fittings and wing-to-fuselage fittings | 7 work-hours × $85 per hour = $595 | 1,860 | 2,455 per inspection cycle | 73,650 per inspection cycle.

The FAA estimates the following costs to do the inspections and installation that would be required if an earlier version of the service information has been accomplished. The agency has no way of determining the number of aircraft that might need these inspections and installation:

On-Condition Costs
Action | Labor cost | Parts cost | Cost per product
Visual and eddy current inspection and installation for certain bushes | 7 work-hours × $85 per hour = $595 | $1,860 | $2,455

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2014-25-04, Amendment 39-18045 (79 FR 73803, December 12, 2014), and

b. Adding the following new airworthiness directive:

2021-11-08 Pilatus Aircraft Ltd.: Amendment 39-21570; Docket No. FAA-2020-0857; Project Identifier MCAI-2020-00707-A.

(a) Effective Date

This airworthiness directive (AD) is effective July 12, 2021.

(b) Affected ADs

This AD replaces AD 2014-25-04, Amendment 39-18045 (79 FR 73803, December 12, 2014) (AD 2014-25-04).

(c) Applicability

This AD applies to Pilatus Aircraft Ltd. Model PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes, all serial numbers, certificated in any category.

Note 1 to paragraph (c): These airplanes may also be identified as Fairchild Republic Company airplanes, Fairchild Industries airplanes, Fairchild Heli Porter airplanes, or Fairchild-Hiller Corporation airplanes.

(d) Subject

Air Transport Association (ATA) of America Code 05, Time Limits/Maintenance Checks.

(e) Reason

This AD was prompted by a determination that new and more restrictive airworthiness limitations, new life limits, and new inspection procedures are necessary. The FAA is issuing this AD to address reduced airplane controllability due to possible loss of structural integrity of certain parts.

(f) Airworthiness Limitations Revision

Unless already done, before further flight, comply with the actions specified in paragraphs (f)(1) through (3) of this AD.

(1) For Models PC-6/B2-H2 and PC-6/B2-H4 airplanes, revise the airworthiness limitations section (ALS) of the existing maintenance manual or instructions for continued airworthiness (ICA) for your airplane as follows:

(i) Replace Section 04-00-00 with Section 04-00-00, Airworthiness Limitations, of Chapter 04, Airworthiness Limitations, of the Pilatus PC-6 Aircraft Maintenance Manual Document No. 01975, Revision 30, dated October 30, 2020.

(ii) Add (or replace, if applicable) Section 53-00-01, Fuselage Wing Fittings—Inspection/Check, of the Pilatus PC-6 Aircraft Maintenance Manual Document No. 01975, Revision 30, dated October 30, 2020.

(iii) Add Section 57-00-03, Wing to Fuselage Fittings—Inspection/Check, of the Pilatus PC-6 Aircraft Maintenance Manual Document No. 01975, Revision 29, dated February 28, 2020.

(2) For all airplanes specified in paragraph (c) of this AD except Models PC-6/B2-H2 and PC-6/B2-H4 airplanes, revise the ALS of the existing maintenance manual or ICA for your airplane as follows:

(i) Replace the ALS with the Airworthiness Limitations Section of Pilatus PC-6 Airworthiness Limitations Document No. 02334, Revision 10, dated October 30, 2020.

(ii) Add (or replace, if applicable) Appendix K, Fuselage Wing Fittings—Inspection/Check, of Pilatus PC-6 Airworthiness Limitations Document No. 02334, Revision 10, dated October 30, 2020.

(iii) Add Appendix L, Wing to Fuselage Fittings—Inspection/Check, of Pilatus PC-6 Airworthiness Limitations Document No. 02334, Revision 9, dated March 6, 2020.

(3) For all airplanes specified in paragraph (c) of this AD, after revising the ALS as required by paragraphs (f)(1) and (2) of this AD, remove from service each part that has reached or exceeded its new life limit.

(g) Inspections and Replacement

(1) For airplanes with a bush part number (P/N) 6100.0020.01 that has been bonded as specified in Section 53-00-01, Fuselage Wing Fittings—Inspection/Check, of Pilatus PC-6 Aircraft Maintenance Manual Document No. 01975, Revision 29, dated February 28, 2020; or Appendix K, Fuselage Wing Fittings—Inspection/Check, of Pilatus PC-6 Airworthiness Limitations Document No. 02334, Revision 9, dated March 6, 2020: Within 50 hours time-in-service (TIS) after the effective date of this AD, perform a visual and eddy current inspection of each fuselage wing fitting on fuselage Frame 3, remove bush P/N 6100.0020.01 from service, and install a new (zero hours TIS) bush P/N 6100.0020.01 into Frame 3 with grease by using the procedures specified in paragraph (f)(1)(ii) or (f)(2)(ii) of this AD, as applicable to your airplane.

(2) Unless already done, within 1,100 hours TIS after the effective date of this AD or within 12 months after the effective date of this AD, whichever occurs first, perform an eddy current inspection of each fuselage wing fitting and each wing-to-fuselage fitting using the procedures specified in paragraphs (f)(1)(ii) and (iii) of this AD, or paragraphs (f)(2)(ii) and (iii) of this AD, as applicable to your airplane. Thereafter, repeat the eddy current inspection of each fuselage wing fitting and each wing-to-fuselage fitting at the intervals specified in the ALS identified in paragraph (f)(1)(i) or (f)(2)(i), as applicable to your airplane.

(h) No Alternative Actions or Intervals

After the ALS has been revised as required by paragraph (f) of this AD, no alternative inspection intervals or procedures may be approved, except as provided in paragraph (i) of this AD.

(i) Other FAA AD Provisions

Alternative Methods of Compliance (AMOCs): The Manager, International Validation Branch, FAA, has the authority to approve AMOCs for this AD, if requested using the procedures found in 14 CFR 39.19. Send your request to the person identified in Related Information. Before using any approved AMOC, notify your appropriate principal inspector, or lacking a principal inspection, the manager of the local Flight Standards District Office.

(j) Related Information

(1) Refer to Mandatory Continuing Airworthiness Information (MCAI) European Union Aviation Safety Agency (EASA) AD 2020-0120, dated May 27, 2020, and EASA AD 2020-0278, dated December 14, 2020, for related information. This MCAI may be found in the AD docket at https://www.regulations.gov by searching for and locating Docket No. FAA-2020-0857.

(2) For more information about this AD, contact Doug Rudolph, Aviation Safety Engineer, FAA, General Aviation & Rotorcraft Section, International Validation Branch, 901 Locust, Room 301, Kansas City, MO 64106; telephone: (816) 329-4059; fax: (816) 329-4090; email: doug.rudolph@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Pilatus PC-6 Aircraft Maintenance Manual Document No. 01975, Revision 29, dated February 28, 2020.

(A) Section 57-00-03, Wing to Fuselage Fittings—Inspection/Check.

(B) [Reserved]

(ii) Pilatus PC-6 Aircraft Maintenance Manual Document No. 01975, Revision 30, dated October 30, 2020.

(A) Section 04-00-00, Airworthiness Limitations, of Chapter 04, Airworthiness Limitations.

(B) Section 53-00-01, Fuselage Wing Fittings—Inspection/Check.

(iii) Pilatus PC-6 Airworthiness Limitations Document No. 02334, Revision 9, dated March 6, 2020.

(A) Appendix L, Wing to Fuselage Fittings—Inspection/Check.

(B) [Reserved]

(iv) Pilatus PC-6 Airworthiness Limitations Document No. 02334, Revision 10, dated October 30, 2020.

(A) Airworthiness Limitations Section.

(B) Appendix K, Fuselage Wing Fittings—Inspection/Check.

(3) For service information identified in this AD, contact Pilatus Aircraft Ltd., Customer Support General Aviation, CH-6371 Stans, Switzerland; telephone: +41 848 24 7 365; email: Techsupport@pilatusaircraft.com; website: https://www.pilatusaircraft.com/en.

(4) You may view this service information at the FAA, Airworthiness Products Section, Operational Safety Branch, 901 Locust, Kansas City, MO 64106. For information on the availability of this material at the FAA, call (816) 329-4148.

(5) You may view this service information that is incorporated by reference at the National Archives and Records Administration (NARA). For information on the availability of this material at NARA, email: fedreg.legal@nara.gov, or go to: https://www.archives.gov/federal-register/cfr/ibr-locations.html.

Issued on May 15, 2021.
Gaetano A. Sciortino,
Deputy Director for Strategic Initiatives, Compliance & Airworthiness Division, Aircraft Certification Service.

[FR Doc. 2021-11812 Filed 6-4-21; 8:45 am]

BILLING CODE 4910-13-P